DEPARTMENT OF THE INTERIOR

Fish and Wildlife Service

[FWS-R4-ES-2016-N148; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by October 11, 2016.

ADDRESSES: Documents and other information submitted with the applications are available for review, subject to the requirements of the Privacy Act and Freedom of Information Act, by any party who submits a written request for a copy of such documents to the following office within 30 days of the date of publication of this notice: U.S. Fish and Wildlife Service, Ecological Services, 1875 Century Boulevard, Suite 200, Atlanta, GA 30345 (Attn: Karen Marlowe, Acting Permit Coordinator).

FOR FURTHER INFORMATION CONTACT: Karen Marlowe, Acting 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 02165C-0

Applicant: I. Jack Stout, Winter Springs, FL

The applicant requests a permit to take (capture, handle, tag, collect tissue, and release) Anastasia Island (Peromyscus polionotus phasma) and southeastern beach mice (P. p. niveiventris) in Florida for presence/absence surveys and genetic analyses.

Permit Application Number: TE 089075-4

Applicant: Donna M. Oddy, Kennedy Space Center, FL

The applicant requests renewal of her permit to continue to take (capture, hold, identify, tag, collect tissue and hair samples, use fluorescent tracking powder, radio-tag, release, and translocate) the Perdido Key (Peromyscus polionotus trissyllepsis), St. Andrews (P. p. peninsularis), Choctawhatchee (P. p. allophrys), Southeastern (P. p. niveiventris), Anastasia Island (P. p. phasma), and Alabama beach mouse (P. p. ammobates) and amend her permit to include authorization to conduct permitted activities in Alabama as well as Florida.

Permit Application Number: TE 049502-7

Applicant: Carola A. Haas, Blacksburg, VA

The applicant requests renewal of her permit to continue to take (capture, measure, weigh, temporararily hold, and release) reticulated flatwoods salamander (Ambystoma bishopi) and frosted flatwoods salamander (Ambystoma cingulatum) and amend her permit to add authorization to take (capture, handle, take scale clips, release, and salvage shed skins) of Eastern indigo snake (Drymarchon corais couperi) and take tail clips of larval reticulated flatwoods and frosted salamanders for presence/absence surveys and genetic analyses.

Permit Application Number: TE 02166C-0

Applicant: Zoe D. Bryant, Tabernacle, NJ

The applicant requests a permit to take (enter hibernacula and maternity roost caves, capture with mist nets and harp traps, salvage, handle, measure, take hair samples, swab, wing-punch, band, and radio-tag) Indiana bats (Myotis sodalis) and northern long-eared bats (Myotis septentrionalis) in Alabama, Arkansas, Georgia, Illinois, Indiana, Iowa, Kansas, Louisiana, Michigan, Minnesota, Mississippi, Missouri, Montana, Nebraska, North Carolina, North Dakota, Ohio, Oklahoma, South Carolina, South Dakota, Tennessee, Wisconsin, and Wyoming for presence/absence surveys and white-nose syndrome surveillance.

Permit Application Number: TE 02167C-0

Applicant: James W. Gore, Paragould, AR

The applicant requests a permit to take (enter hibernacula and maternity roost caves, capture with mist nets and harp traps, handle, measure, salvage, collect hair samples, swab, wing-punch, band, and radio-tag) gray bats (Myotis grisescens), Indiana bats (Myotis sodalis), northern long-eared bats (Myotis septentrionalis), and Ozark big-eared bats (Corynorhinus (=Plecotus) townsendii ingens) throughout the species' ranges for presence/absence surveys and white-nose syndrome surveillance.

Permit Application Number: TE 130300-5

Applicant: Paul D. Johnson, Alabama Aquatic Biodiversity Center, Marion, AL

The applicant requests renewal of his permit to continue to take (collect, transport, hold in captivity for more than 45 consecutive days, release, translocate, and euthanize) endangered species of freshwater mussels, gastropods, and fish for presence/absence surveys, captive propagation, reintroduction, and scientific research purposes in Alabama, Georgia, Mississippi, and Tennessee.

Permit Application Number: TE 03305C-0

Applicant: U.S. Army Corps of Engineers, Memphis, TN

The applicant requests amendment of their permit (formerly TE 061069-2) to add authorization to take (capture, identify, hold temporarily, and release) the Alabama (=inflated) heelsplitter (Potamilus inflatus) and southern clubshell (Pleurobema decisum) for presence/absence surveys in Alabama, and continue those same activities with the following freshwater mussels in Arkansas, Kentucky, and Mississippi: Pink mucket (Lampsilis abrupta), fat pocketbook (Potamilus capax), turgid-blossom (Epioblasma turgidula), ring-pink (Obovaria retusa), and orange-footed (Plethobasus cooperianus).

Permit Application Number: TE 183402-1

Applicant: U.S. Army, Fort Jackson, SC

The applicant requests renewal of their permit to continue to collect seeds (remove and reduce to possession) of the smooth coneflower (Echinacea laevigata) on Fort Jackson Military Reservation and sow the seeds in adjacent areas to expand and increase existing populations.

Permit Application Number: TE 087194-4

Applicant: Goethe State Forest, Dunellon, FL

The applicant requests renewal of their permit to continue to take (construct and monitor artificial nest cavities and restrictors, capture, band, translocate) red-cockaded woodpeckers (Picoides borealis) in Goethe State Forest and other State forest lands in Florida for population management and monitoring purposes.

Permit Application Number: TE 812344-6

Applicant: Pennington and Associates, Inc., Cookeville, TN

The applicant requests renewal of their permit to continue to take (capture, identify, release) the Nashville crayfish (Orconectes shoupi), Anthony's riversnail (Athearnia anthonyi), Royal marstonia (Pyrgulopsis ogmorhaphe), and several species of endangered and threatened fish and take (capture, identify, release, and salvage relic shells) several species of freshwater mussels in Alabama, Georgia, Kentucky, North Carolina, Tennessee, and Virginia for presence/absence surveys.

Dated: September 2, 2016.
Leopoldo Miranda,
Assistant Regional Director, Ecological Services, Southeast Region.

[FR Doc. 2016-21702 Filed 9-8-16; 8:45 am]

BILLING CODE 4310-55-P